LEGAL SERVICES CORPORATION

LSC Strategic Plan 2012-2016; Request for Comments

AGENCY: Legal Services Corporation.

ACTION: Request for comments.

SUMMARY: The Legal Services Corporation (“LSC” or “Corporation”) Board of Directors (“Board”) is soliciting public comment on the LSC Board's draft strategic plan for 2012-2016.

DATES: Written comments must be received by close of business July 11, 2012.

ADDRESSES: Written comments may be submitted by mail, fax, or email to Richard L. Sloane, Chief of Staff and Special Assistant to the President, Legal Services Corporation, 3333 K Street NW., Washington, DC 20007; (202) 295-7264 (fax), or sloaner@lsc.gov. Comments may also be submitted online at http://www.lsc.gov/about/matters-comment/comment-submission-form-lsc-board-directors-draft-strategic-plan-2012-2016.

FOR FURTHER INFORMATION CONTACT: Richard L. Sloane, Chief of Staff and Special Assistant to the President, Legal Services Corporation, 3333 K Street NW., Washington, DC 20007, (202) 295-1616 (phone), (202) 337-7264 (fax), or sloaner@lsc.gov.

SUPPLEMENTARY INFORMATION: The Board is developing a strategic plan for LSC for the years 2012-2016. The public is hereby formally invited to comment on the draft strategic plan, which is available at http://www.lsc.gov/sites/default/files/LSC/pdfs/LSCStrategicPlan-DRAFTForFedRegCommentsJune2012.PDF. Comments may be submitted via mail, fax, or email to Richard L. Sloane, Chief of Staff and Special Assistant to the President, Legal Services Corporation, 3333 K Street NW., Washington, DC 20007, (202) 295-1616 (phone), (202) 337-7264 (fax), or sloaner@lsc.gov. Comments may also be submitted online at http://www.lsc.gov/about/matters-comment/comment-submission-form-lsc-board-directors-draft-strategic-plan-2012-2016. Comments will be accepted until the close of business on July 11, 2012.

Notice: All comments received will be posted and available at www.lsc.gov. Such comments are also subject to disclosure under FOIA. Personally identifiable information, such as phone numbers and addresses, may be redacted upon request.

Dated: June 8, 2012.
Victor M. Fortuno,
Vice President & General Counsel.

[FR Doc. 2012-14497 Filed 6-13-12; 8:45 am]

BILLING CODE 7050-01-P